DEPARTMENT OF COMMERCE

National Oceanic and Atmospheric Administration

RIN 0648-XC576

Endangered Species; File No. 17787

AGENCY: National Marine Fisheries Service (NMFS), National Oceanic and Atmospheric Administration (NOAA), Commerce.

ACTION: Notice; receipt of application.

SUMMARY: Notice is hereby given that the NMFS Southeast Fisheries Center (SEFSC); 75 Virginia Beach Drive, Miami, FL 33149 [Responsible Party: Bonnie Ponwith, Ph.D.], has applied in due form for a permit to take smalltooth sawfish (Pristis pectinata) for purposes of scientific research.

DATES: Written, telefaxed, or email comments must be received on or before April 22, 2013.

ADDRESSES: The application and related documents are available for review by selecting Records Open for Public Comment from the Features box on the Applications and Permits for Protected Species (APPS) home page, https://apps.nmfs.noaa.gov, and then selecting File No. 17787 from the list of available applications.

These documents are also available upon written request or by appointment in the following offices:

Permits and Conservation Division, Office of Protected Resources, NMFS, 1315 East-West Highway, Room 13705, Silver Spring, MD 20910; phone (301) 427-8401; fax (301) 713-0376; and

Southeast Region, NMFS, 263 13th Avenue South, Saint Petersburg, FL 33701; phone (727) 824-5312; fax (727) 824-5309.

Written comments on this application should be submitted to the Chief, Permits and Conservation Division:

• By email to NMFS.Pr1Comments@noaa.gov (include the File No. in the subject line of the email);

• By facsimile to (301) 713-0376; or

• At the address listed above.

Those individuals requesting a public hearing should submit a written request to the Chief, Permits and Conservation Division at the address listed above. The request should set forth the specific reasons why a hearing on this application would be appropriate.

FOR FURTHER INFORMATION CONTACT: Colette Cairns or Malcolm Mohead, (301) 427-8401.

SUPPLEMENTARY INFORMATION: The subject permit is requested under the authority of the Endangered Species Act of 1973, as amended (ESA; 16 U.S.C. 1531 et seq.) and the regulations governing the taking, importing, and exporting of endangered and threatened species (50 CFR parts 222-226).

The applicant proposes to gather life history information on smalltooth sawfish. The purpose of the research is to investigate the movements and habitat use of smalltooth sawfish in Florida waters, primarily in the region of the Florida coast from Naples to Key West, encompassing the Ten Thousand Islands. Up to 100 neonate and 40 juvenile and adult sawfish would be captured annually by longline, gillnet, seine net, and recreational angling gear. All captured sawfish are measured, tagged, sampled, and released. Tagging methods would include dart tags, passive integrated transponder tags, and external satellite tags (e.g., Smart Position Only Transmitting tags, Pop-Up Archival Transmitting tags) and internal acoustic tags. Tissue and blood samples would also be taken. Dead sawfish acquired through strandings or from law enforcement confiscations would be sampled for scientific purposes. The permit is requested for a duration of 5 years.

Dated: March 18, 2013.
P. Michael Payne,
Chief, Permits and Conservation Division, Office of Protected Resources, National Marine Fisheries Service.

[FR Doc. 2013-06467 Filed 3-20-13; 8:45 am]

BILLING CODE 3510-22-P